DEPARTMENT OF THE INTERIOR

Bureau of Land Management

[AZ-068-01-1820-DG-241E]

Notice of Availability of Las Cienegas Draft Resource Management Plan and Draft Environmental Impact Statement (DRMP/DEIS)

AGENCY: Tucson Field Office, Bureau of Land Management, Interior.

ACTION: Notice.

SUMMARY: The Bureau of Land Management (BLM) has prepared a Draft Resource Management Plan (DRMP) and associated Draft Environmental Impact Statement (DEIS) for the Las Cienegas National Conservation Area (NCA) and Sonoita Valley Acquisition Planning District located in Pima and Santa Cruz Counties, Arizona. The DRMP and DEIS have been prepared pursuant to the National Environmental Policy Act (NEPA), the Federal Land Policy and Management Act (FLPMA), the act establishing the Las Cienegas National Conservation Area (H.R. 2941), and BLM management policies. The DRMP was developed with broad public participation through a five-year collaborative planning process. Both land use planning and activity-level planning for the NCA and Acquisition Planning District are included in the DRMP. The DRMP provides a range of alternatives for management direction for the Las Cienegas National Conservation Area and Sonoita Valley Acquisition Planning District. The DRMP addresses management on approximately 49,000 acres of public land. Issues addressed in the DRMP/DEIS include watershed management, fish and wildlife habitat management, visual resource management, cultural resource management, economics, mineral development, rights-of-way, off-highway vehicles, recreation, livestock grazing management, and designation of areas of critical environmental concern. The action alternatives were prepared in accordance with applicable planning procedures and are designed to conserve, protect, and enhance the unique and nationally important resources and values of the public lands within the NCA.

DATES: Public comments on the Las Cienegas DRMP/DEIS must be received by the Bureau of Land Management on or before November 19, 2001.

BLM will discuss the various management alternatives and answer questions pertaining to the Draft Las Cienegas Resource Management Plan in three public open house meetings:

1. Sonoita-Elgin Open House, September 25, 2001, 4:00 to 7:00 p.m.

2. Mesa Open House, September 26, 2001, 3:30 to 7:30 p.m.

3. Tucson Open House, September 27, 2001, 3:30 to 7:30 p.m.

ADDRESSES: The open house meeting locations are:

1. Sonoita-Elgin—Santa Cruz County Fairgrounds, South Highway 83, Sonoita Arizona (520) 455-5553.

2. Mesa—Mesa Centennial Center, Rendevous Center, Apache Room, 263 North Center Street, Mesa, Arizona (480) 644-3311.

3. Tucson—Pima Community College EAST Campus, Community Room, 8181 E. Irvington, Tucson, Arizona (520) 206-7000.

Written comments should be sent to Dave McIlnay, Acting Field Manager, Tucson Field Office, Bureau of Land Management, 12661 E. Broadway, Tucson, Arizona 85748.

FOR FURTHER INFORMATION CONTACT: Karen Simms, Ecosystem Planner, Tucson Field Office, Bureau of Land Management, 12661 E. Broadway, Tucson, Arizona 85748, telephone 520-258-7200.

SUPPLEMENTARY INFORMATION: Single copies of the DRMP/DEIS will be available at the start of the 90 day comment period at the BLM Tucson Field Office, 12661 E. Broadway, Tucson, Arizona 85748. The DRMP/DEIS may be reviewed via the internet at http://www.az.blm.gov. Interested persons not already on the mailing list may request a hard copy or a CDROM of the DRMP/DEIS from the BLM Tucson Field Office.

Comments on the DEIS

Public comments may be submitted during the public open house meetings or in writing to the address provided above. Written comments on the Las Cienegas DRMP/DEIS will be considered in preparing the Final Resource Management Plan and Final Environmental Impact Statement. Comments on the contents of this document are being solicited, particularly comments that address one or more of the following: (1) New information that would affect the analysis; (2) possible improvements in the analysis; and (3) suggestions for improving or clarifying the proposed management direction. Specific comments are most useful. Please note that comments, including names and street addresses of respondents, are available for public review and/or release under the Freedom of Information Act (FOIA). Individual respondents may request confidentiality. If you wish to withhold your name and/or street address from public review or from disclosure under FOIA, you must state this prominently at the beginning of your written comment. Such requests will be honored to the extent allowed by law. All submissions from organizations or businesses, and from individuals identifying themselves as representatives or officials or organizations or businesses, will be made available for public inspection in their entirety.

Background

The Las Cienegas National Conservation Area (NCA) and the Sonoita Valley Acquisition Planning District were created by act of Congress (HR 2941) on December 6, 2000. The NCA consists of 42,000 acres of federal land located in southern Pima and northeastern Santa Cruz counties, Arizona. The Sonoita Valley Acquisition Planning District includes another 7,000 acres of scattered federal lands surrounding the NCA. These federal lands are managed by the Bureau of Land Management's Tucson Field Office. The Act establishing the Las Cienegas National Conservation Area requires BLM to prepare a management plan for the NCA within 2 years of the area's designation.

The Las Cienegas NCA and Sonoita Valley Acquisition Planning District encompass much of the upper Cienega Creek watershed, which is important to Tucson for flood control and aquifer recharge. The area also has the following attributes: five of the rarest plant communities in the American Southwest; habitat for several endangered, proposed, and candidate species; significant cultural sites including a site on the National Register of Historic Places; two proposed wild and scenic river segments; and scenic open space.

Dated: May 23, 2001.
Dave McIlnay,
Acting Field Manager.

[FR Doc. 01-20898 Filed 8-17-01; 8:45 am]

BILLING CODE 4310-32-P